DEPARTMENT OF ENERGY

Federal Energy Regulatory Commission

Combined Notice of Filings #1

Take notice that the Commission received the following electric rate filings:

Docket Numbers: ER11-2154-008.

Applicants: Twin Eagle Resource Management, LLC.

Description: Notice of Change of Status of Twin Eagle Resource Management, LLC.

Filed Date: 10/16/17.

Accession Number: 20171016-5236.

Comments Due: 5 p.m. ET 11/6/17.

Docket Numbers: ER17-256-003; ER17-242-003; ER17-243-003; ER17-245-003; ER17-652-003.

Applicants: Darby Power, LLC, Gavin Power, LLC, Lawrenceburg Power, LLC, Waterford Power, LLC, Lightstone Marketing LLC.

Description: Notice of Change in Status of Darby Power, LLC, et al.

Filed Date: 10/16/17.

Accession Number: 20171016-5237.

Comments Due: 5 p.m. ET 11/6/17.

Docket Numbers: ER17-2084-001.

Applicants: Great Bay Solar I, LLC.

Description: Notice of Non-Material Change of Status of Great Bay Solar 1, LLC.

Filed Date: 10/17/17.

Accession Number: 20171017-5116.

Comments Due: 5 p.m. ET 11/7/17.

Docket Numbers: ER18-83-000.

Applicants: Midcontinent Independent System Operator, Inc.

Description: § 205(d) Rate Filing: 2017-10-16_SA 1570 Fenton Power-NSP 2nd Rev GIA (G162 J789) to be effective 9/29/2017.

Filed Date: 10/16/17.

Accession Number: 20171016-5214.

Comments Due: 5 p.m. ET 11/6/17.

Docket Numbers: ER18-84-000.

Applicants: Southwest Power Pool, Inc.

Description: § 205(d) Rate Filing: 1770R1 AECI and Empire District Interconnection Agreement to be effective 10/9/2017.

Filed Date: 10/17/17.

Accession Number: 20171017-5004.

Comments Due: 5 p.m. ET 11/7/17.

Docket Numbers: ER18-85-000.

Applicants: ISO New England Inc.

Description: § 205(d) Rate Filing: Revised Tariff Sheets for the Recovery of Costs for the 2018 Operation of NESCOE to be effective 1/1/2018.

Filed Date: 10/17/17.

Accession Number: 20171017-5060.

Comments Due: 5 p.m. ET 11/7/17.

Docket Numbers: ER18-86-000.

Applicants: PJM Interconnection, L.L.C.

Description: § 205(d) Rate Filing: Rev to the OATT and OA RE: Allocation of Uplift to Virtual Transactions to be effective 4/1/2018.

Filed Date: 10/17/17.

Accession Number: 20171017-5089.

Comments Due: 5 p.m. ET 11/7/17.

Docket Numbers: ER18-87-000.

Applicants: PJM Interconnection, L.L.C.

Description: § 205(d) Rate Filing: Revisions to OATT and OA RE: RegD Performance and Compensation to be effective 4/1/2018.

Filed Date: 10/17/17.

Accession Number: 20171017-5097.

Comments Due: 5 p.m. ET 11/7/17.

Docket Numbers: ER18-88-000.

Applicants: PJM Interconnection, L.L.C.

Description: § 205(d) Rate Filing: Rev to the OATT and OA RE: Reducing Bidding Points for Virtual Transactions to be effective 1/16/2018.

Filed Date: 10/17/17.

Accession Number: 20171017-5110.

Comments Due: 5 p.m. ET 11/7/17.

Docket Numbers: ER18-89-000.

Applicants: Frenchtown I Solar, LLC.

Description: Baseline eTariff Filing: Frenchtown I Reactive Service Filing to be effective 12/18/2017.

Filed Date: 10/17/17.

Accession Number: 20171017-5126.

Comments Due: 5 p.m. ET 11/7/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 17, 2017.
Nathaniel J. Davis, Sr.,
Deputy Secretary.

[FR Doc. 2017-22977 Filed 10-23-17; 8:45 am]

BILLING CODE 6717-01-P